DEPARTMENT OF COMMERCE

Census Bureau

15 CFR Part 80

[Docket No. 260108-0018]

RIN 0607-AA71

Removing Redundant Language From the Regulations Governing the Furnishing of Personal Census Data

AGENCY: Census Bureau, Department of Commerce.

ACTION: Final rule.

SUMMARY: By this rule, the Census Bureau (Bureau) is amending its regulations that govern the furnishing of personal census data. Specifically, this rule removes two unnecessary sections that merely restate underlying statutory language. This action is necessary to reduce regulatory complexity and redundancy. The intended effect is to promote the simplicity and clarity of the Code of Federal Regulations for public benefit, without altering any substantive rights or obligations.

DATES: The rule is effective January 23, 2026.

FOR FURTHER INFORMATION CONTACT: Shannon Wink, Program Analyst, Policy Coordination Office, 301-763-6440, pco.policy.office@census.gov.

SUPPLEMENTARY INFORMATION:

I. Background

This action concerns the Bureau's regulations at 15 CFR part 80, which set forth requirements, restrictions, and procedures for obtaining personal information from historical population records maintained by the Bureau. Such regulations specify who is eligible to request personal information, outline the application process, and identify the conditions under which data may be released.

A. Regulatory History

The Bureau established the regulations at part 80 through a final rule published on November 17, 1975 (40 FR 53232). That rule was promulgated under the authority of 13 U.S.C. 8 to create a standardized process for furnishing personal data from census questionnaires to authorized individuals. The regulatory framework requires applicants to submit a formal request, typically on Form BC-600, and to pay a fee. It also defines eligibility for requesting information for living persons, such as the individual themselves, a parent of a minor, or a legal guardian, as well as for deceased persons, limiting access to specific relatives or the administrator of the estate.

Through a final rule published on December 23, 1983 (48 FR 56744), the Bureau made technical amendments to certain regulations at part 80—including § 80.6—by adding Office of Management and Budget control numbers in compliance with the Paperwork Reduction Act.

B. Description of the Pertinent Regulations

This action affects two sections within part 80, §§ 80.5 and 80.6, both of which were established by the original 1975 rule.

Section 80.5, titled “Detrimental use of information,” cites and quotes 13 U.S.C. 8(c), stating that “[i]n no case shall information furnished under this section be used to the detriment of any respondent or other person to whom such information relates.” 15 CFR 80.5.

Similarly, § 80.6, titled “False statements,” stated that “[a]ny false statement or forgery on the application or supporting papers required to obtain Census information is punishable by a fine and/or imprisonment pursuant to section 1001 of Title 18 of the United States Code.” 15 CFR 80.6; see 18 U.S.C. 1001(a) (making it a crime punishable up to five years' imprisonment to make any false statement or to use any false writing in any matter within the jurisdiction of the executive branch).

II. Discussion

This rule amends 15 CFR part 80 by removing two sections that the Bureau has determined are unwarranted—§§ 80.5 and 80.6. As described above, these sections merely restate underlying statutory language and therefore are unnecessary. Specifically, § 80.5 directly quotes 13 U.S.C. 8(c), which is self-executing and does not require any implementing regulation to be effective; and § 80.6 references and restates 18 U.S.C. 1001, a criminal law of general applicability that, like 13 U.S.C. 8(c), does not require any implementing regulation. Accordingly, neither § 80.5 nor § 80.6 serves any independent function; both simply call attention to statutory provisions that the public is already presumed to be aware of.

Upon review, the Bureau has determined that the continued maintenance of these sections is not justified. Because, in substance, §§ 80.5 and 80.6 are entirely duplicative of statutory language, their removal will not alter any substantive rights, obligations, or consequences for misconduct. Moreover, their removal is consistent with the Department of Commerce's ongoing effort to streamline its regulations, eliminate superfluous provisions and clutter, and promote efficiency. Their removal is also consistent with the general understanding that statutes can and ought to speak for themselves, and that regulatory restatements thereof pose an unnecessary risk of miscommunication and misinterpretation.

III. Regulatory Certifications

A. Administrative Procedure Act

Pursuant to 5 U.S.C. 553(b)(B), the Department of Commerce (Department) finds good cause to waive the prior notice and opportunity for public participation requirements of the Administrative Procedure Act for this final rule. The Department considers this rule to be uncontroversial, and has determined that prior notice and opportunity for public participation is unnecessary, because this rule only removes two regulatory sections that merely restate statutory language and thus are entirely superfluous. The appropriateness of removing these sections pursuant to the Department's deregulatory effort would not be affected by public comment, as these sections clearly serve no meaningful function independent from the underlying statutory authority. For the same reasons, the Department has determined that delaying the effectiveness of these amendments would be contrary to the public interest. The regulatory language being removed by this rule unnecessarily poses some risk of inconsistency, confusion, and inefficiency; its removal will immediately benefit the public at little to no cost. The Department therefore finds good cause to waive the public notice and comment period under 553(b)(B) and, for the same reasons, to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 80

Administrative practice and procedure, Archives and records, Census data.

Dated: January 20, 2026.
George Cook,
Chief of Staff to the Under Secretary for Economic Affairs performing the non-exclusive functions and duties of the Director of the Census Bureau.

For the reasons set forth in the preamble, the Census Bureau amends 15 CFR part 80 to read as follows:

PART 80—FURNISHING PERSONAL CENSUS DATA FROM CENSUS OF POPULATION SCHEDULES

1. The authority citation for part 80 continues to read as follows:

Authority: Sec. 1, Pub. L. 83-1158, 68 Stat. 1013 (13 U.S.C. 8).

§ 80.5 [Removed and Reserved]

2. Remove and reserve § 80.5.

§ 80.6 [Removed and Reserved]

3. Remove and reserve § 80.6.

[FR Doc. 2026-01245 Filed 1-22-26; 8:45 am]

BILLING CODE 3510-07-P